Title 3—

The President

Proclamation 7406 of February 7, 2001

American Heart Month, 2001

By the President of the United States of America

A Proclamation

The year 2001 once seemed so distant that it became a symbol of science fiction. But today, researchers studying heart and other cardiovascular diseases have made 2001 a year when science rivals fiction.

Only 50 years ago, Americans were acknowledged to be suffering from an epidemic of heart disease. So little was known about the disease that it was thought part of the normal process of aging. Luck played a larger role in surviving a heart attack or hypertension than did medicine—and those who survived were forced to lead restricted lives.

But thanks to scientific advances and education, the death rate from coronary heart disease has fallen by nearly 60 percent since its peak in the mid-1960s. This startling improvement resulted not only from advances in the treatment of heart disease but also from gains in knowledge about its prevention. Scientists also have opened up new fields, including that of gene research. Their work promises to bring great improvements in the prevention and treatment of heart disease.

But problems remain. In particular, how can the rewards of scientific advances be brought to all Americans? Racial, ethnic, and geographic gaps still exist in the burden of disease. The number one killer of women is cardiovascular disease.

Another challenge is the increase in certain conditions and heart disease risk factors. Obesity and physical inactivity pose still other problems. More than half of American adults are overweight and obese, about one in four are sedentary, and another third are not active enough to reach a healthy level of fitness.

Meeting such challenges takes both will and technology. For example, researchers recently found that small changes in lifestyle that boost moderate-level physical activity can protect cardiorespiratory fitness and blood pressure as much as a structured exercise program. These are changes that all Americans can adopt.

Sudden death from cardiac arrest has also been a major health threat. Yet fortunately, more Americans are learning the warning signs of cardiac arrest. Calling 9-1-1 immediately and administering cardiopulmonary resuscitation (CPR) until an electric shock to the heart can be given to restore a normal heartbeat—a practice known as defibrillation—combined with early advanced care can result in long-term survival rates as high as 40 percent for certain types of cardiac arrest.

The Federal Government seeks to improve Americans' heart health by supporting research and public education through its National Heart, Lung, and Blood Institute, part of the National Institutes of Health. The American Heart Association, through its research and education programs and its vital network of dedicated volunteers, also plays a crucial role in bringing about much-needed advances.

Americans have always believed in the power of science to improve lives, and it is their support and the use of scientific advances that has reduced the epidemic of heart disease. It will be through continued scientific efforts that we find even more answers and reduce the rate of heart disease even further.

In recognition of the importance of the ongoing fight against cardiovascular disease, the Congress, by Joint Resolution approved December 30, 1963 (77 Stat. 843; 36 U.S.C 101) has requested that the President issue an annual proclamation designating February as “American Heart Month.”

NOW, THEREFORE, I, GEORGE W. BUSH, President of the United States of America, do hereby proclaim the month of February 2001 as American Heart Month. I invite the Governors of the States, the Commonwealth of Puerto Rico, officials of other areas subject to the jurisdiction of the United States, and the American people to join me in reaffirming our commitment to combating cardiovascular disease.

IN WITNESS WHEREOF, I have hereunto set my hand this seventh day of February, in the year of our Lord two thousand one, and of the Independence of the United States of America the two hundred and twenty-fifth.

[FR Doc. 01-3588

Filed 2-8-01; 11:50 am]

Billing code 3195-01-P